DEPARTMENT OF TRANSPORTATION

Federal Motor Carrier Safety Administration

[Docket ID FMCSA-2008-0292]

Qualification of Drivers; Exemption Applications; Vision

AGENCY: Federal Motor Carrier Safety Administration (FMCSA), DOT.

ACTION: Notice of applications for exemptions; request for comments.

SUMMARY: FMCSA announces receipt of applications from 22 individuals for exemptions from the vision requirement in the Federal Motor Carrier Safety Regulations. If granted, the exemptions would enable these individuals to qualify as drivers of commercial motor vehicles (CMVs) in interstate commerce without meeting the Federal vision standard.

DATES: Comments must be received on or before November 17, 2008.

ADDRESSES: You may submit comments bearing the Federal Docket Management System (FDMS) Docket ID FMCSA-2008-0292 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgment page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 22 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Timothy S. Ballard

Mr. Ballard, age 49, has had amblyopia in his left eye since childhood. The visual acuity in his right eye is 20/20 and in the left, 20/150. Following an examination in 2008, his optometrist noted, “In my opinion, there is no reason to restrict Mr. Ballard from driving a commercial vehicle.” Mr. Ballard reported that he has driven straight trucks for 5 years, accumulating 250,000 miles. He holds a Class B Commercial Driver's License (CDL) from North Carolina. His driving record for the last 3 years shows no crashes and no convictions for moving violations in a CMV.

Paul W. Browning

Mr. Browning, 55, has had retinal detachment in his right eye since 1996. The best corrected visual acuity in his right eye is hand motion vision and in the left, 20/20. Following an examination in 2008, his optometrist noted, “It is my medical opinion that Mr. Browning has sufficient vision to perform the driving tasks required to operate a commercial vehicle.” Mr. Browning reported that he has driven straight trucks for 12 years, accumulating 300,000 miles, tractor-trailer combinations for 5 years, accumulating 150,000 miles, and buses for 5 years, accumulating 7,500 miles. He holds a Class A CDL from New Mexico. His driving record for the last 3 years shows no crashes and one conviction for a moving violation in a CMV. He changed lanes improperly.

Timothy D. Carle

Mr. Carle, 66, has loss of vision in his right eye due to a retinal detachment that occurred 20 years ago. The best corrected visual acuity in his right eye is light perception and in the left, 20/20. Following an examination in 2008, his optometrist noted, “I certify that, in my medical opinion, he has sufficient vision to perform the driving tasks required to operate a commercial vehicle safely.” Mr. Carle reported that he has driven straight trucks for 19 years, accumulating 446,348 miles. He holds a Class B CDL from Wisconsin. His driving record for the last 3 years shows no crashes and no convictions for moving violations in a CMV.

Ronald W. Garner

Mr. Garner, 61, has optic neuropathy due to traumatic injury since 1993. The best corrected visual acuity in his right eye is 20/20 and in the left, 20/80. Following an examination in 2008, his ophthalmologist noted, “I feel Ron has sufficient vision to operate a commercial vehicle.” Mr. Garner reported that he has driven tractor-trailer combinations for 43 years, accumulating 1.7 million miles. He holds a Class A CDL from Washington. His driving record for the last 3 years shows no crashes and no convictions for moving violations in a CMV.

Paul A. Gregerson

Mr. Gregerson, 71, has had age-related macular degeneration since 2004. The best corrected visual acuity in his right eye is 20/300 and in the left, 20/20. Following an examination in 2008, his optometrist noted, “He retains excellent central vision of his left eye and with the complete visual field of both eyes, it is my opinion that he is visually competent to operate a commercial vehicle.” Mr. Gregerson reported that he has driven tractor-trailer combinations for 45 years, accumulating 5.4 million miles. He holds a Class A CDL from Iowa. His driving record for the last 3 years shows no crashes and no convictions for moving violations in a CMV.

Benjamin P. Hall

Mr. Hall, 49, has had amblyopia in his right eye since childhood. The best corrected visual acuity in his right eye is 20/60 and in the left, 20/25. Following an examination in 2008, his ophthalmologist noted, “I can medically certify that Mr. Hall has sufficient vision to perform the driving tasks required to operate a commercial vehicle.” Mr. Hall reported that he has driven straight trucks for 20 years, accumulating 20,000 miles. He holds a Class A CDL from New York. His driving record for the last 3 years shows no crashes and no convictions for moving violations in a CMV.

Frank L. Langston

Mr. Langston, 70, has had amblyopia in his left eye since birth. The best corrected visual acuity in his right eye is 20/20 and in the left, 20/400. Following an examination in 2008, his ophthalmologist noted, “In my opinion, his vision is sufficient to operate a commercial vehicle.” Mr. Langston reported that he has driven straight trucks for 5 years, accumulating 250,000 miles, and tractor-trailer combinations for 40 years, accumulating 4 million miles. He holds a Class D operator's license from Alabama. His driving record for the last 3 years shows no crashes and no convictions for moving violations in a CMV.

Bruce J. Lewis

Mr. Lewis, 41, has had amblyopia in his left eye since birth. The best corrected visual acuity in his right eye is 20/15 and in the left, 20/400. Following an examination in 2008, his ophthalmologist noted, “In my medical opinion, Mr. Lewis has sufficient vision to operate a commercial vehicle.” Mr. Lewis reported that he has driven straight trucks for 19 years, accumulating 760,000 miles. He holds a Class 10 operator's license from Rhode Island, which allows him to operate any motor vehicle except a motorcycle and a vehicle that weighs more than 26,000 pounds, carries 16 or more passengers or transports placarded amounts of hazardous materials. His driving record for the last 3 years shows no crashes and no convictions for moving violations in a CMV.

John L. Lolley

Mr. Lolley, 40, has a prosthetic left eye due to a history of congenital cataract and glaucoma. The visual acuity in his right eye is 20/20. Following an examination in 2008, his ophthalmologist noted, “Mr. Lolley has adequate vision to operate a commercial vehicle.” Mr. Lolley reported that he has driven straight trucks for 9 years, accumulating 36,000 miles. He holds a Class D operator's license from Alabama. His driving record for the last 3 years shows no crashes and no convictions for moving violations in a CMV.

Kenny Y. Louie

Mr. Louie, 40, has had amblyopia in his left eye since childhood. The best corrected visual acuity in his right eye is 20/20 and in the left, 20/200. Following an examination in 2008, his ophthalmologist noted, “From my evaluation, with both eyes, this patient has sufficient vision and a full visual field to perform the driving tasks required to operate a commercial vehicle.” Mr. Louie reported that he has driven straight trucks for 17 years, accumulating 4,250 miles. He holds a Class C operator's license from California. His driving record for the last 3 years shows no crashes and no convictions for moving violations in a CMV.

Josue Maqueira

Mr. Maqueira, 66, has complete loss of vision in his left eye due to optic atrophy. The best corrected visual acuity in his right eye is 20/20 and in the left, 20/400. Following an examination in 2008, his ophthalmologist noted, “I believe he is able to drive a commercial vehicle safely as a result of his excellent vision with glasses worn and his full visual field in the right eye, even though his left eye is legally blind.” Mr. Maqueira reported that he has driven straight trucks for 40 years, accumulating 4.8 million miles, and tractor-trailer combinations for 40 years, accumulating 4.8 million miles. He holds a Class A CDL from Florida. His driving record for the last 3 years shows no crashes and no convictions for moving violations in a CMV.

Lido J. Martocchio

Mr. Martocchio, 51, has loss of vision in his left eye due to a traumatic injury since childhood. The best corrected visual acuity in his right eye is 20/20 and in the left, hand motion vision. Following an examination in 2008 his optometrist noted, “Mr. Lido's visual deficiency is currently stable. Although he is monocular, he does not need any corrective lenses to drive and he does have sufficient vision to perform the driving tasks required to operate a commercial vehicle in my professional opinion.” Mr. Martocchio reported that he has driven straight trucks for 21 years, accumulating 315,000 miles. He holds a Class B CDL from California. His driving record for the last 3 years shows no crashes and no convictions for moving violations in a CMV.

Michael W. McCann

Mr. McCann, 48, has had amblyopia in his right eye since childhood. The best corrected visual acuity in his right eye is 20/400 and in the left, 20/20. Following an examination in 2008, his optometrist noted, “Mr. McCann's current ocular health and visual fields are excellent. His present visual status is sufficient to perform the driving tasks required to operate a commercial vehicle.” Mr. McCann reported that he has driven straight trucks for 13 years, accumulating 390,000 miles, tractor-trailer combinations for 5 years, accumulating 650,000 miles, and buses for 18 years, accumulating 180,000 miles. He holds a Class A CDL from Virginia. His driving record for the last 3 years shows one crash, for which he was not cited, and one conviction for speeding in a CMV. He exceeded the speed limit by 19 mph.

Duffy P. Metrejean, Jr.

Mr. Metrejean, 54, has had amblyopia in his left eye since birth. The best corrected visual acuity in his right eye is 20/20 and in the left, 20/60. Following an examination in 2008, his optometrist noted, “In my opinion, Mr. Metrejean has sufficient vision to perform the driving tasks required to operate a commercial vehicle.” Mr. Metrejean reported that he has driven tractor-trailer combinations for 25 years, accumulating 2 million miles. He holds a Class D operator's license from Louisiana. His driving record for the last 3 years shows no crashes and no convictions for moving violations in a CMV.

Hudson M. Osborne

Mr. Osborne, 44, has complete loss of vision in his left eye due to ocular trauma sustained as a child. The best corrected visual acuity in his right eye is 20/20. Following an examination in 2008, his optometrist noted, “It is my medical opinion that Hudson Osborne has sufficient vision to perform the driving tasks required to operate a commercial vehicle.” Mr. Osborne reported that he has driven straight trucks for 5 years, accumulating 300,000 miles, and buses for 1 year, accumulating 15,000 miles. He holds a Class A CDL from Nevada. His driving record for the last 3 years shows one crash, for which he was cited, and no convictions for moving violations in a CMV.

Stephen P. Preslopsky

Mr. Preslopsky, 53, has loss of vision in his left eye due to a cataract. The best corrected visual acuity in his right eye is 20/20 and in the left, hand motion vision. Following an examination in 2008, his ophthalmologist noted, “It is my opinion that Mr. Preslopsky's vision is sufficient to operate a commercial vehicle, however, this is only from a medical stand point.” Mr. Preslopsky reported that he has driven straight trucks for 9 years, accumulating 256,500 miles, and tractor-trailer combinations for 21 years, accumulating 1 million miles. He holds a Class A CDL from Florida. His driving record for the last 3 years shows no crashes and no convictions for moving violations in a CMV.

Ross C. Rich

Mr. Rich, 54, has a prosthetic right eye due to a traumatic injury. The best corrected visual acuity in his left eye is 20/20. Following an examination in 2008, his ophthalmologist noted, “In my medical opinion, Mr. Rich has sufficient vision in his left eye to perform the driving tasks required to operate a commercial vehicle.” Mr. Rich reported that he has driven straight trucks for 3 years, accumulating 156,000 miles. He holds a Class A CDL from Minnesota. His driving record for the last 3 years shows no crashes and no convictions for moving violations in a CMV.

Melinda V. Salas

Ms. Salas, 47, has a prosthetic right eye due to traumatic injury since childhood. The best corrected visual acuity in her left eye is 20/20. Following an examination in 2008, her optometrist noted, “In my medical opinion, Melinda has sufficient vision to perform driving tasks required to operate a commercial vehicle.” Ms. Salas reported that she has driven straight trucks for 5 years, accumulating 27,000 miles. She holds a Class C operator's license from California. Her driving record for the last 3 years shows no crashes and no convictions for moving violations in a CMV.

Jayland R. Siebers

Mr. Siebers, 52, has a prosthetic right eye due to meningioma of the optic nerve that occurred in 1993. The visual acuity in his left eye is 20/20. Following an examination in 2008, his optometrist noted, “I certify that he meets the visual requirements outlined to perform the driving tasks required to operate a commercial motor vehicle.” Mr. Siebers reported that he has driven tractor-trailer combinations for 32 years, accumulating 3.8 million miles. He holds a Class A CDL from Kansas. His driving record for the last 3 years shows no crashes and one conviction for speeding in a CMV. He exceeded the speed limit by 12 mph.

Christopher G. Strand

Mr. Strand, 37, has aphakia in his left eye due to a traumatic injury that occurred 20 years ago. The best corrected visual acuity in his right eye is 20/20 and in the left, 20/100. Following an examination in 2008, his optometrist noted, “In my opinion, Chris's visual status and adaptation to it is sufficient for him to operate a commercial vehicle.” Mr. Strand reported that he has driven tractor-trailer combinations for 12 years, accumulating 1.3 million miles. He holds a Class A CDL from Wisconsin. His driving record for the last 3 years shows no crashes and no convictions for moving violations in a CMV.

Michael J. Welle

Mr. Welle, 52, has aphakia in his right eye due to a traumatic injury that he sustained as a child. The visual acuity in his right eye is 20/400 and in the left, 20/20. Following an examination in 2008, his optometrist noted, “Mr. Welle has had this condition for 40 years and it has been stable and he has adapted very well, his peripheral vision and color vision are normal and in my professional opinion has more than adequate vision to operate a commercial vehicle.” Mr. Welle reported that he has driven tractor-trailer combinations for 24 years, accumulating 2.4 million miles. He holds a Class A CDL from Minnesota. His driving record for the last 3 years shows no crashes and no convictions for moving violations in a CMV.

Patricia A. White

Ms. White, 39, has had amblyopia in her right eye since birth. The best corrected visual acuity in her right eye is 20/400 and in the left, 20/20. Following an examination in 2008, her optometrist noted, “I feel that Ms. White has sufficient vision to perform the driving tasks required to operate a commercial vehicle.” Ms. White reported that she has driven buses for 14 years, accumulating 406,000 miles. She holds a Class D operator's license from Illinois. Her driving record for the last 3 years shows no crashes and no convictions for moving violations in a CMV.

Request for Comments

In accordance with 49 U.S.C. 31136(e) and 31315, FMCSA requests public comment from all interested persons on the exemption petitions described in this notice. The Agency will consider all comments received before the close of business November 17, 2008. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: October 9, 2008.
Larry W. Minor,
Associate Administrator for Policy and Program Development.

[FR Doc. E8-24691 Filed 10-16-08; 8:45 am]

BILLING CODE 4910-EX-P